DEPARTMENT OF THE INTERIOR

Bureau of Indian Affairs

Notice of Intent To Prepare an Environmental Impact Statement for the Proposed Trust Acquisition of an Initial Reservation for the Mashpee Wampanoag Tribe in the Town of Mashpee, Barnstable County, and Town of Middleboro, Plymouth County, MA, Including a Gaming Facility at the Middleboro Property

AGENCY: Bureau of Indian Affairs, Interior.

ACTION: Notice.

SUMMARY: This notice advises the public that the Bureau of Indian Affairs (BIA) as Lead Agency, with the Mashpee Wampanoag Tribe (Tribe) as Cooperating Agency, will be gathering information needed for an Environmental Impact Statement (EIS) for the proposed trust acquisition of approximately 679 acres of land as the Tribe's initial reservation. The proposed acquisition includes approximately 140 acres in the Town of Mashpee, Barnstable County, Massachusetts, and approximately 539 acres in the Town of Middleboro, Plymouth County, Massachusetts. The property in Mashpee would be used for tribal administrative and cultural purposes and housing for tribal members. For the property in Middleboro, the Tribe plans the construction of a gaming facility with related facilities. The purposes of the proposed federal action are to provide a land base for the Tribe and to help meet the economic needs of the Tribe and its members. This notice also announces public scoping meetings to identify potential issues, alternatives and content for inclusion in the EIS.

DATES: Written comments on the scope and implementation of this proposal must arrive by April 9, 2008. The public scoping meetings will be held March 25 and March 26, 2008, starting at 6 p.m. and continuing until all those who register to make statements have been heard.

ADDRESSES: You may mail, hand carry or fax written comments to Franklin Keel, Regional Director, Eastern Regional Office, Bureau of Indian Affairs, 545 Marriott Drive, Suite 700, Nashville, Tennessee 37214, fax (615) 564-6550.

The March 25, 2008, meeting will be at the Middlboro High School Auditorium, 71 East Grove Street, Middleboro, Massachusetts. The March 26, 2008, meeting will be at the Mashpee High School Auditorium, 500 Old Barnstable Road, Mashpee, Massachusetts.

FOR FURTHER INFORMATION CONTACT: Kurt Chandler (615) 564-6832.

SUPPLEMENTARY INFORMATION: The BIA is considering the Tribe's application for approximately 679 acres of land to be taken into trust as the Tribe's initial reservation as a newly acknowledged Indian tribe. The Tribe's application includes some properties in Mashpee, Barnstable County, Massachusetts, and some properties in Middleboro, Plymouth County, Massachusetts. The properties located in Mashpee amount to approximately 140 acres. Most of these lands have been owned or used by the Tribe or organizations controlled by or related to the Tribe for many years, and are currently used for tribal administrative and cultural purposes (such as the Old Meeting House and tribal museum) and as conservation land. These uses would not change. Some of the Mashpee lands would also be used to build homes for tribal members and their families.

The properties in Middleboro, a number of contiguous parcels totaling approximately 539 acres, are located along Route 44, about 3.5 miles east of exit 6 on Interstate 495. Although the eventual size and scope of the facilities may be modified based on information obtained through the EIS process, the Tribe's current plans for the Middleboro land include the construction of a destination resort and gaming facility, with a 750 to 1500 room hotel, restaurants and food court with a variety of offerings, a 5,000 to 10,000 seat entertainment venue, approximately 80,000 square feet of convention event space, retail shops, a service station, a warehouse and employee services. The project also includes plans for Native American cultural attractions and for recreational facilities, such as a spa, golf course and water park. In addition, there would be approximately 10,000 parking spaces, the majority of which would be in parking garages or under the casino.

The proposed federal action encompasses all of the various federal approvals required to implement the Tribe's fee-to-trust application. Areas of environmental concern identified so far for analysis in the EIS include water resources and wetlands, stormwater management and erosion control, air quality, biological resources, historic properties and other cultural resources, socioeconomic conditions, traffic and transportation, land use, public utilities and services, noise, lighting, hazardous materials, environmental justice, visual resources and aesthetics, and cumulative impacts. The range of issues and alternatives addressed in the EIS may be expanded or reduced, based on comments received in response to this notice and from the public scoping meetings.

The action the BIA is considering—accepting title to the property in trust, and declaring the land to be the Tribe's reservation—is a federal undertaking with the potential to affect historic properties. As such, it is subject to the requirements of section 106 of the National Historic Preservation Act of 1966 (16 U.S.C. 470f.). In accordance with regulations issued by the Advisory Council on Historic Preservation, 36 CFR part 800, the BIA intends to coordinate compliance with section 106 of this Act with the preparation of the EIS, beginning with the identification of consulting parties through the scoping process, in a manner consistent with the standards set out in 36 CFR 800.8(c)(1).

Public Comment Availability

Comments, including names and addresses of respondents, will be available for public review at the mailing address shown in the ADDRESSES section, during regular business hours, 8 a.m. to 4:30 p.m., Monday through Friday, except holidays. Before including your address, phone number, e-mail address or other personal identifying information in your comment, you should be aware that your entire comment—including your personal identifying information—may be made publicly available at any time. While you can ask us in your comment to withhold your personal identifying information from public review, we cannot guarantee that we will be able to do so.

Authority

This notice is published under authority delegated to the Assistant Secretary—Indian Affairs by 209 DM 8.1 and in accordance with the following:

—The Council on Environmental Quality Regulations (40 CFR 1503.1 and 1506.6);

—The National Environmental Policy Act of 1969, as amended (42 U.S.C. 4321 et. seq.); and

—The Department of the Interior Manual (516 DM 1-6).

Dated: February 14, 2008.
Carl J. Artman,
Assistant Secretary, Indian Affairs.

[FR Doc. E8-4353 Filed 3-5-08; 8:45 am]

BILLING CODE 4310-W7-P